ENVIRONMENTAL PROTECTION AGENCY

[FRL-7157-8]

Developing EPA Information Quality Guidelines Pursuant to OMB Information Quality Guidelines Under Section 515 of the Treasury and General Government Appropriations Act for FY 2001 (Public Law 106-554; HR 5658)

AGENCY: Environmental Protection Agency.

ACTION: Notice.

SUMMARY: The Environmental Protection Agency (EPA) will hold an Online Public Comment Session between March 19, 2002, and March 22, 2002, to give early opportunity to comment on areas to be considered as EPA develops Information Quality Guidelines pursuant to Office of Management and Budget Final Guidelines issued on February 22, 2002 (67 FR 8452-8460). EPA will post a request for public input on March 19 and comments will be accepted until midnight EST March 22, 2002. The time frame for this comment opportunity is brief due to the accelerated schedule for finalizing the Guidelines. The Public's comments will help inform and shape the direction EPA will take in developing the Guidelines. Instructions for providing your comments will be available online as of March 19, 2002. In addition to this online comment opportunity, EPA will make its draft Guidelines available for public comment and hold a Public Meeting on the Information Quality Guidelines in May 2002 in Washington, DC. Additional details about the Public Meeting will be posted on the EPA Office of Environmental Information website as soon as they become available.

DATES: The Online Public Comment Session will be held March 19-22, 2002.

ADDRESSES: The Online Public Comment Session will be accessible via the Internet at www.epa.gov/oei.

FOR FURTHER INFORMATION CONTACT: Evangeline Tsibris Cummings, Environmental Protection Agency, Office of Environmental Information, Office of Information Analysis and Access; telephone: 202-260-1655; e-mail: cummings.evangeline@epa.gov

Dated: March 7, 2002.
Elaine Stanley,
Director, Office of Information Analysis and Access, Office of Environmental Information.

[FR Doc. 02-6155 Filed 3-13-02; 8:45 am]

BILLING CODE 6560-50-P